DEPARTMENT OF COMMERCE

National Oceanic and Atmospheric Administration

[RTID 0648-XA135]

Pacific Fishery Management Council; Public Meeting

AGENCY: National Marine Fisheries Service (NMFS), National Oceanic and Atmospheric Administration (NOAA), Commerce.

ACTION: Notice of public meeting (online).

SUMMARY: The Pacific Fishery Management Council (Pacific Council) will hold an online work session of its Coastal Pelagic Species Management Team (CPSMT) to review the draft Range of Alternatives (ROA) relative to the Pacific sardine rebuilding plan. This webinar is open to the public.

DATES: The webinar will be held Thursday, May 7, 2020, from 9 a.m. to 2 p.m., Pacific Daylight Time, or until business for the day has been completed.

ADDRESSES: The meeting will be held as an online meeting. Online access information will be posted to the Council's website (www.pcouncil.org) in advance.

Council address: Pacific Fishery Management Council, 7700 NE Ambassador Place, Suite 101, Portland, OR 97220-1384.

FOR FURTHER INFORMATION CONTACT: Kerry Griffin, Pacific Council; telephone: (503) 820-2409.

SUPPLEMENTARY INFORMATION: The primary purpose of the work session is to consider a draft ROA document relative to the Pacific sardine rebuilding plan. The ROA is tentatively scheduled to be considered by the Council at its June 2020 Council meeting. Other June Council meeting agenda items may also be considered by the CPSMT, as necessary.

Although non-emergency issues not contained in the meeting agenda may be discussed, those issues may not be the subject of formal action during this meeting. Action will be restricted to those issues specifically listed in this document and any issues arising after publication of this document that require emergency action under section 305(c) of the Magnuson-Stevens Fishery Conservation and Management Act, provided the public has been notified of the intent to take final action to address the emergency.

Special Accommodations

Requests for sign language interpretation or other auxiliary aids should be directed to Mr. Kris Kleinschmidt (kris.kleinschmidt@noaa.gov; (503) 820-2412) at least 10 days prior to the meeting date.

Authority: 16 U.S.C. 1801 et seq.

Dated: April 16, 2020.
Tracey L. Thompson,
Acting Deputy Director,Office of Sustainable Fisheries, National Marine Fisheries Service.

[FR Doc. 2020-08423 Filed 4-20-20; 8:45 am]

BILLING CODE 3510-22-P